ENVIRONMENTAL PROTECTION AGENCY

[OCS-EPA-R4006; FRL-9623-1]

Notice of Issuance of Final Outer Continental Shelf Air Permit for Shell Offshore, Inc.

AGENCY: Environmental Protection Agency (EPA).

ACTION: Notice of final action.

SUMMARY: This notice is to announce that on November 30, 2011, EPA issued a final Outer Continental Shelf (OCS) air permit for Shell Offshore, Inc. (Shell). This permit became effective on December 30, 2011. The permit will regulate air pollutant emissions from one of three deepwater drilling vessels (the Transocean Deepwater Nautilus, the Noble Bully I or the Noble Bully II) and support vessels to conduct exploratory drilling for up to 150 days per year over five to ten years in multiple locations within Shell's DeSoto Canyon and Lloyd Ridge lease locations on the OCS in the Gulf of Mexico, approximately 160 miles southeast of the mouth of the Mississippi River and greater than 200 miles southwest of Panama City, Florida.

ADDRESSES: The final permit, EPA's response to the public comments, and additional supporting information are available at http://www.epa.gov/region4/air/permits/OCSPermits/ShellOCS.html. Copies of the final permit and EPA's response to comments are also available for review at the EPA Regional Office and upon request in writing. EPA requests that you contact the person listed in the FOR FURTHER INFORMATION CONTACT section to schedule your review of the records. The Regional Office's official hours of business are Monday through Friday, 8:30 to 4:30 excluding federal holidays.

FOR FURTHER INFORMATION CONTACT: Lori Shepherd, Air Permits Section, Air Planning Branch, Air, Pesticides and Toxics Management Division, Region 4, U.S. Environmental Protection Agency, 61 Forsyth Street SW., Atlanta, Georgia 30303-8960. The telephone number is (404) 562-8435. Ms. Shepherd can also be reached via electronic mail at shepherd.lorinda@epa.gov.

SUPPLEMENTARY INFORMATION: On August 19, 2011, the EPA Region 4 Office requested public comments on a proposal to issue an OCS air permit for Shell. During the public comment period, which ended on September 19, 2011, EPA received comments from Shell and from ConocoPhillips Company regarding the project. EPA carefully reviewed each of the comments submitted and, after consideration of the expressed view of all interested persons, the pertinent federal statutes and regulations, and additional material relevant to the application and contained in the administrative record, EPA made a decision in accordance with title 40 CFR 52.21, 40 CFR part 71 and 40 CFR part 55 to issue a final OCS permit.

Under 40 CFR 124.19(f)(2), notice of any final Agency action regarding a prevention of significant deterioration (PSD) permit must be published in the Federal Register. Section 307(b)(1) of the Clean Air Act (CAA) provides for review of final Agency action that is locally or regionally applicable in the United States Court of Appeals for the appropriate circuit. Such a petition for review of final Agency action must be filed within 60 days from the date of notice of such action in the Federal Register. For purposes of judicial review under the CAA, final Agency action occurs when a final PSD permit is issued or denied by EPA and Agency review procedures are exhausted per 40 CFR 124.19(f)(1). Any person who filed comments on the draft permit was provided the opportunity to petition the Environmental Appeals Board by December 30, 2011. No petitions were submitted; therefore the permit became effective on December 30, 2011.

Dated: January 12, 2012.
Beverly H. Banister,
Director, Air, Pesticides and Toxics Management Division.

[FR Doc. 2012-1506 Filed 1-24-12; 8:45 am]

BILLING CODE 6560-50-P